DEPARTMENT OF TRANSPORTATION

Federal Aviation Administration

14 CFR Part 97

[Docket No. 30413; Amdt. No. 3096]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective May 18, 2004. The compliance date for each SIAP is specified in the amendatory provisions.

The incorporation by reference of certain publications listed in the regulations is approved by the Director of the Federal Register as of May 18, 2004.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: PO Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on May 6, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

. . . Effective June 10, 2004

Searcy, AR, Searcy Muni, NDB RWY 1, Orig

Searcy, AR, Searcy Muni, NDB RWY 1, Amdt 4, CANCELLED

Windsor Locks, CT, Bradley Intl, COPTER ILS OR LOC RWY 6, Orig

Miami, FL, Miami Intl, ILS OR LOC RWY 30, Orig

Miami, FL, Miami Intl, LOC RWY 30, Amdt 6A, CANCELLED

Frankfort, KY, Capital City, RNAV (GPS) RWY 6, Orig

Frankfort, KY, Capital City, RNAV (GPS) RWY 24, Orig

Frankfort, KY, Capital City, LOC RWY 24, Amdt 1

Frankfort, KY, Capital City, VOR RWY 24, Amdt 2B

Frankfort, KY, Capital City, GPS RWY 6, Orig, CANCELLED

Frankfort, KY, Capital City, GPS RWY 24, Orig-A, CANCELLED

Charlotte, NC, Charlotte/Douglas Intl, RNAV (GPS) RWY 5, Amdt 2

Charlotte, NC, Charlotte/Douglas Intl, RNAV (GPS) RWY 18L, Amdt 2

Charlotte, NC, Charlotte/Douglas Intl, RNAV (GPS) RWY 18R, Amdt 2

Charlotte, NC, Charlotte/Douglas Intl, RNAV (GPS) Y RWY 23, Orig

Charlotte, NC, Charlotte/Douglas Intl, RNAV (GPS) Z RWY 23, Orig

Charlotte, NC, Charlotte/Douglas Intl, RNAV (GPS) RWY 36L, Amdt 2

Charlotte, NC, Charlotte/Douglas Intl, RNAV (GPS) RWY 36R, Amdt 2

Charleston, SC, Charleston Executive, ILS OR LOC RWY 9, Orig

Bristol/Johnson/Kingsport, TN, Tri-Cities Rgnl TN/VA, RNAV (GPS) RWY 5, Orig

Bristol/Johnson/Kingsport, TN, Tri-Cities Rgnl TN/VA, RNAV (GPS) RWY 9, Orig

Bristol/Johnson/Kingsport, TN, Tri-Cities Rgnl TN/VA, RNAV (GPS) Y RWY 23, Orig

Bristol/Johnson/Kingsport, TN, Tri-Cities Rgnl TN/VA, RNAV (GPS) Z RWY 23, Orig

Bristol/Johnson/Kingsport, TN, Tri-Cities Rgnl TN/VA, RNAV (GPS) RWY 27, Orig

Oneida, TN, Scott Muni, SDF RWY 23, Amdt 5

Gainesville, TX, Gainesville Muni, NDB RWY 17, Amdt 9

Gainesville, TX, Gainesville Muni, RNAV (GPS) RWY 17, Orig

Gainesville, TX, Gainesville Muni, GPS RWY 17, Orig-A, CANCELLED

. . . Effective July 8, 2004

Goodland, KS, Renner Fld/Goodland Muni, ILS OR LOC/DME RWY 30, Orig-A

Shreveport, LA, Shreveport Regional, NDB RWY 14, Amdt 20A

Tulsa, OK, Richard Lloyd Jones Jr, VOR RWY 1L, Amdt 4C

Manassas, VA, Manassas Regional/Harry P. Davis Field, RNAV (GPS) RWY 16L, Orig-A

. . . Effective August 5, 2004

Platinum, AK, Platinum, RNAV (GPS) RWY 13, Orig

Platinum, AK, Platinum, GPS RWY 13, Orig, CANCELLED

Wales, AK, Wales, RNAV (GPS) RWY 18, Orig

Wales, AK, Wales, RNAV (GPS) RWY 36, Orig

Rochester, MN, Rochester Intl, NDB RWY 31, Amdt 22

Rochester, MN, Rochester Intl, VOR/DME RWY 20, Amdt 13B

Rochester, MN, Rochester Intl, ILS OR LOC RWY 13, Amdt 6

Rochester, MN, Rochester Intl, ILS OR LOC RWY 31, Amdt 21

Rochester, MN, Rochester Intl, COPTER ILS OR LOC RWY 31, Amdt 1

Rochester, MN, Rochester Intl, RNAV (GPS) RWY 2, Amdt 1

Rochester, MN, Rochester Intl, RNAV (GPS) RWY 13, Orig

Rochester, MN, Rochester Intl, RNAV (GPS) RWY 20, Orig

Rochester, MN, Rochester Intl, RNAV (GPS) RWY 31, Orig

Oklahoma City, OK, Will Rogers World, RNAV (GPS) RWY 17R, Amdt 1B

Oklahoma City, OK, Will Rogers World, RNAV (GPS) RWY 35L, Amdt 1A

Bristol/Johnson/Kingsport, TN, Tri-Cities Rgnl TN/VA, NDB RWY 5, Amdt 17

Bristol/Johnson/Kingsport, TN, Tri-Cities Rgnl TN/VA, NDB RWY 23, Amdt 19

The FAA published an Amendment in Docket No. 30410, Amdt. No. 3094 to Part 97 of the Federal Aviation Regulations (Vol 69, FR No. 76, Page 21181; dated April 20, 2004) under Section 97.33 effective 10 Jun 2004, which is hereby rescinded:

Urbana, OH, Grimes Field, RNAV (GPS) RWY 2, Orig

Urbana, OH, Grimes Field, RNAV (GPS) RWY 20, Orig

Urbana, OH, Grimes Field, VOR-A, Amdt 5C

[FR Doc. 04-10814 Filed 5-17-04; 8:45 am]

BILLING CODE 4910-13-P